DEPARTMENT OF HOMELAND SECURITY

[Docket No. DHS-2021-0043]

Homeland Security Science and Technology Advisory Committee; Correction

AGENCY: Science and Technology Directorate, DHS.

ACTION: Committee management; notice of Federal Advisory Committee charter re-establishment; correction.

SUMMARY: The Department of Homeland Security (DHS) is correcting a notice published in the Federal Register on November 1, 2021 regarding then re-establishment of the Homeland Security Science and Technology Advisory Committee (HSSTAC). The notice listed incorrect effective and expiration dates for the HSSTAC charter. The correct effective date for the charter should be November 23, 2021 and the correct expiration date should be November 23, 2023.

FOR FURTHER INFORMATION CONTACT: Adam Cox, HSSTAC Executive Director, and Stanley Cunningham, HSSTAC Designated Federal Official, S&T Department of Homeland Security, hsstac@hq.dhs.gov, 202-878-1455.

SUPPLEMENTARY INFORMATION:

Correction

In the Federal Register of November 1, 2021, at FR Doc 2021-23651, on page 60268, in the third column, replace the date “November 15, 2021” with the date “November 23, 2021” and replace the date “November 15, 2023” with the date “November 23, 2023.”

Dated: December 13, 2021.
Stanley Cunningham,
Designated Federal Official for the HSSTAC.

[FR Doc. 2021-27275 Filed 12-15-21; 8:45 am]

BILLING CODE 9110-9F-P